DEPARTMENT OF HOUSING AND URBAN DEVELOPMENT

[Docket No. FR-7029-N-11]

60-Day Notice of Proposed Information Collection: The Rent Reform Demonstration

AGENCY: Office of the Assistant Secretary for Policy Development and Research, HUD.

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: February 16, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: The Rent Reform Demonstration: 6-Year Long-Term Follow-Up.

OMB Approval Number: 2528-0306.

Type of Request (i.e., new, revision or extension of currently approved collection): Revision or extension of currently approved collection.

Form Number: N/A.

Description of the need for the information and proposed use: The Department is conducting this study under contract with MDRC and its subcontractors (The Bronner Group, Quadel Consulting Corporation, and the Urban Institute). The project is a random assignment trial of an alternative rent system. Families are randomly assigned to participate either in the new/alternative rent system or to continue in the current system. For voucher holders, outcomes of the alternative system are hypothesized to be increases in earnings, employment, and job retention among others. Random assignment will limit the extent to which selection bias drives observed results. The evaluation will document the progress of a group of housing voucher holders, who will be drawn from current residents, and the impact of the alternative rent system on the families as well as the administrative burden on Public Housing Agencies (PHAs). Three PHAs continue to participate in the long-term evaluation:

(1) Lexington Housing Authority (LHA), Lexington, Kentucky;

(2) Louisville Metro Housing Authority (LMHA), Louisville, Kentucky;

(3) San Antonio Housing Authority (SAHA), San Antonio, Texas; and

Data collection efforts include the families that are part of the treatment and control groups, as well as PHA staff. Data will be gathered through a variety of methods including informational interviews and discussions, direct observation, and analysis of administrative records. The work covered under this information request is for data collection proposed for the 6-year follow-up phase of the Rent Reform Demonstration.

Respondents: Public housing agency administrators/staff managing or implementing the new rent policy and participants enrolled in the HUD Rent Reform Demonstration.

Estimated Number of Respondents:

• Public Housing Authority Staff: A maximum of 33.

• Families with housing vouchers participating in the Rent Reform Demonstration: A maximum of 60.

Estimated Time per Response: 90 to 120 minutes, depending on the interview.

Frequency of Response: 1 interview.

Estimated Total Annual Burden Hours: 144 hours.

Estimated Total Annual Cost: $2,125.62

Respondent's Obligation: Voluntary.

Legal Authority: The data collection is conducted under Title 12, United States Code, Section.

Information collection | Number of respondents | Frequency of response | Responses per annum | Burden hour per response | Annual burden hours | Hourly cost per response | Cost
Study Participant Interviews and/or Focus Groups | 60 | 1 | 60 | 1.5 | 90 | ¹ $7.25 | $652.50
PHA Staff Interviews | 24 | 1 | 24 | 1.5 | 36 | ² 26.67 | 960.12
Cost Study Data Collection Activities with PHA staff | 9 | 1 | 9 | 2 | 18 | ³ 28.50 | 513.00
Total | 93 |  |  |  | 144 |  | 2,125.62
¹ Households participating in the Rent Reform Demonstration will range widely in employment position and earnings. We have estimated the hourly wage at the expected prevailing minimum wage, which is $7.25 per hour in Kentucky and Texas. Moreover, we expect about 50 percent of the participants to be employed at the time of the field research (based on analysis of employment data for the study sample). Based on this, we assumed 50% of tenants would be working at the federal minimum wage.
² For program staff participating in interviews, the estimate uses the median hourly wages of selected occupations (classified by Standard Occupational Classification (SOC) codes) was sourced from the Occupational Employment Statistics from the U.S. Department of Labor's Bureau of Labor Statistics. Potentially relevant occupations and their median hourly wages are:

Occupation | SOC code | Median hourly wage rate
Community and Social Service Specialist | 21-1099 | $21.05
Social/community Service Manager | 11-9151 | 32.28
Source: Occupational Employment Statistics, accessed online November 20, 2020 at http://www.bls.gov/oes/current/oes_stru.htm.
To estimate cost burden to program staff respondents, we use an average of the occupations listed, or $26.67/hr.
³ The Cost Study Data collection assumes 2 managers and 1 specialist will be interviewed by site.

1701z and Section 3507 of the Paperwork Reduction Act of 1995, 44, U.S.C., 35, as amended.

B. Solicitation of Public Comment

This notice is soliciting comments from members of the public and affected parties concerning the collection of information described in Section A on the following:

(1) Whether the proposed collection of information is necessary for the proper performance

of the functions of the agency, including whether the information will have practical utility;

(2) The accuracy of the agency's estimate of the burden of the proposed collection of

information;

(3) Ways to enhance the quality, utility, and clarity of the information to be collected, and

(4) Ways to minimize the burden of the collection of information on those who are to respond, including through the use of appropriate automated collection techniques or other forms of information technology, e.g., permitting electronic submission of responses. HUD encourages interested parties to submit comment in response to these questions.

C. Authority

Section 3507 of the Paperwork Reduction Act of 1995, 44 U.S.C. Chapter 35.

The General Deputy Assistant Secretary for Policy Development and Research, Todd M. Richardson, having reviewed and approved this document, is delegating the authority to electronically sign this document to submitter, Nacheshia Foxx, who is the Federal Register Liaison for HUD, for purposes of publication in the Federal Register.

Nacheshia Foxx,
Federal Register Liaison for the Department of Housing and Urban Development.

[FR Doc. 2020-27891 Filed 12-17-20; 8:45 am]

BILLING CODE 4210-67-P